DEPARTMENT OF ENERGY

Federal Energy Regulatory Commission

[Docket No. CP07-29-000]

Gulf South Pipeline Company, LP; Notice of Application

December 8, 2006.

Take notice that on December 4, 2006, Gulf South Pipeline Company, LP (Gulf South), 20 East Greenway Plaza, Houston, Texas 77046, filed in Docket No. CP07-29-000, an application under section 7(b) of the Natural Gas Act (NGA) to abandon by sale an 11.6 mile pipeline segment in Mobile County, Alabama, to Mobile Gas Service Corporation (Mobile Gas), all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Gulf South states that it proposes to abandon by sale to Mobile Gas, a local distribution company, approximately 11.6 miles of 14-inch diameter pipe on the Jackson-Mobile pipeline (designated as Index 301), 0.70 miles of 2-inch diameter pipeline (designated as Index 301-25), a 2-inch tap valve (designated as Index 301-33), and other appurtenant auxiliary facilities (collectively referred to as the Index 301 Segment), all located in Mobile County. Gulf South also states that the proposed abandonment of the Index 301 Segment facilities would have no impact on firm service provided to any of Gulf South's current customers. Gulf South further states that following abandonment, Mobile Gas would continue to provide firm natural gas deliveries to all 51 farm taps on the line by tying the Index 301 Segment into its existing local distribution system in the area.

Any questions regarding this application may be directed to J. Kyle Stephens, Director of Certificates, Gulf South Pipeline Company, LP, 20 East Greenway Plaza, Houston, Texas 77046, or at (713) 544-7309 (telephone); (713) 544-3540 (fax); or by e-mail: kyle.stephens@gulfsouthpl.com.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a) (1) (iii) and the instructions on the Commission's Web site under the “e-Filing” link.

Comment Date: December 29, 2006.

Magalie R. Salas,
Secretary.

[FR Doc. E6-21382 Filed 12-14-06; 8:45 am]

BILLING CODE 6717-01-P